DEPARTMENT OF LABOR

Employment and Training Administration

[TA-W-40,983]

Symbol Techologies, Telxon Corporation, Houston, TX; Amended Certification Regarding Eligibility To Apply for Worker Adjustment Assistance

In accordance with section 223 of the Trade Act of 1974 (19 U.S.C. 2273) the Department of Labor issued a Certification of Eligibility to Apply for Worker Adjustment Assistance on May 7, 2002, applicable to workers of Symbol Technologies, Houston, Texas. The notice was published in the Federal Register on May 17, 2002 (67 FR 35141).

At the request of the State agency, the Department reviewed the certification for workers of the subject firm. The workers are engaged in the production of bar code scanners and handheld computers used for retail sales.

Information received from the State shows that Symbol Technologies merged with Telxon Corporation in 2000. Information also shows that some workers separated from employment at the subject firm had their wages reported under a separate unemployment insurance (UI) tax account for Telxon Corporation.

Accordingly, the Department is amending the certification to properly reflect this matter.

The intent of the Department's certification is to include all workers of Symbol Technologies, Houston Texas who were adversely affected by increased imports.

The amended notice applicable to TA-W-40,983 is hereby issued as follows:

“All workers of Symbol Technologies, Telxon Corporation, Houston, Texas, engaged in the production of bar code scanners and handheld computers, who became totally or partially separated from employment on or after January 3, 2001, through May 7, 2004, are eligible to apply for adjustment assistance under Section 223 of the Trade Act of 1974.”

Signed at Washington, DC, this 6th day of August, 2002.
Linda G. Poole,
Certifying Officer, Division of Trade Adjustment Assistance.

[FR Doc. 02-20614 Filed 8-13-02; 8:45 am]

BILLING CODE 4510-30-P